DEPARTMENT OF ENERGY

Federal Energy Regulatory Commission

Combined Notice of Filings #1

Take notice that the Commission received the following electric rate filings:

Docket Numbers: ER10-2881-016; ER10-2882-016; ER10-2883-016; ER10-2884-016; ER10-2886-016; ER10-2641-016; ER10-2663-016; ER10-2886-016; ER13-1101-011; ER13-1541-010; ER14-787-004; ER14-661-003.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC, SG2 Imperial Valley LLC.

Description: Notification of Non-Material of Change in Status of Alabama Power Company, et. al.

Filed Date: 11/20/14.

Accession Number: 20141120-5096.

Comments Due: 5 p.m. ET 12/11/14.

Docket Numbers: ER14-1386-004.

Applicants: California Independent System Operator Corporation.

Description: Compliance filing per 35: 2014-11-19_EIM_Compliance to be effective 10/24/2014.

Filed Date: 11/19/14.

Accession Number: 20141119-5160.

Comments Due: 5 p.m. ET 12/10/14.

Docket Numbers: ER14-2968-001.

Applicants: Louisville Gas and Electric Company.

Description: Tariff Amendment per 35.17(b): EKPC NITSA Amendment to be effective 12/1/2014.

Filed Date: 11/19/14.

Accession Number: 20141119-5158.

Comments Due: 5 p.m. ET 12/10/14.

Docket Numbers: ER15-447-000.

Applicants: Hawkes Meadow Energy, LLC.

Description: Request for Limited Waiver of Hawkes Meadow Energy, LLC.

Filed Date: 11/19/14.

Accession Number: 20141119-5195.

Comments Due: 5 p.m. ET 12/10/14.

Docket Numbers: ER15-448-000.

Applicants: SG2 Imperial Valley LLC.

Description: § 205(d) rate filing per 35.13(a)(2)(iii): SG2 Amendment Filing to be effective 11/21/2014.

Filed Date: 11/20/14.

Accession Number: 20141120-5082.

Comments Due: 5 p.m. ET 12/11/14.

Docket Numbers: ER15-449-000.

Applicants: Southern California Edison Company.

Description: Tariff Withdrawal per 35.15: Notices of Cancellation of Several Service Agmts for Wholesale Distrb Service to be effective 1/20/2015.

Filed Date: 11/20/14.

Accession Number: 20141120-5101.

Comments Due: 5 p.m. ET 12/11/14.

Docket Numbers: ER15-450-000.

Applicants: Duke Energy Florida, Inc.

Description: Initial rate filing per 35.12 City of Fort Meade NITSA SA No. 152 to be effective 1/1/2015.

Filed Date: 11/20/14.

Accession Number: 20141120-5102.

Comments Due: 5 p.m. ET 12/11/14.

Docket Numbers: ER15-451-000.

Applicants: Midcontinent Independent System Operator, Inc.

Description: § 205(d) rate filing per 35.13(a)(2)(iii): 2014-11-20_SA 2649 Termination Geronimo-ITC J281/J282 GIA to be effective 11/21/2014.

Filed Date: 11/20/14.

Accession Number: 20141120-5115.

Comments Due: 5 p.m. ET 12/11/14.

Take notice that the Commission received the following electric reliability filings:

Docket Numbers: RR15-3-000.

Applicants: North American Electric Reliability Corporation.

Description: North American Electric Reliability Corporation Petition for Approval of the Amendments to Exhibit B of the Amended and Restated Delegation Agreement with Florida Reliability Coordinating Council, Inc.-the FRCC Bylaws.

Filed Date: 11/19/14.

Accession Number: 20141119-5186.

Comments Due: 5 p.m. ET 12/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2014.
Nathaniel J. Davis, Sr.,
Deputy Secretary.

[FR Doc. 2014-28109 Filed 11-26-14; 8:45 am]

BILLING CODE 6717-01-P